DEPARTMENT OF TRANSPORTATION

National Highway Traffic Safety Administration

49 CFR Part 541

[Docket No. NHTSA 2007-28874]

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2005 including theft rates for existing passenger motor vehicle lines manufactured in model year (MY) 2005. The preliminary theft data indicate that the vehicle theft rate for CY/MY 2005 vehicles (1.85 thefts per thousand vehicles) increased by 1.1 percent from the theft rate for CY/MY 2004 vehicles (1.83 thefts per thousand vehicles).

Publication of these data fulfills NHTSA's statutory obligation to periodically obtain accurate and timely theft data, and publish the information for review and comment.

DATES: Comments must be submitted on or before December 14, 2007.

ADDRESSES: You may submit comments (identified by DOT Docket No. NHTSA-2007-28874) by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: For detailed instructions on submitting comments and additional information on the rulemaking process, see the Public Participation heading of the SUPPLEMENTARY INFORMATION section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov. or the street address listed above. Follow the online instructions for accessing the dockets.

FOR FURTHER INFORMATION CONTACT: Ms. Carlita Ballard, Office of International Policy, Fuel Economy and Consumer Programs, NHTSA, 1200 New Jersey Avenue, SE., Washington, DC 20590. Ms. Ballard's telephone number is (202) 366-0846. Her fax number is (202) 493-2990.

SUPPLEMENTARY INFORMATION: NHTSA administers a program for reducing motor vehicle theft. The central feature of this program is the Federal Motor Vehicle Theft Prevention Standard, 49 CFR Part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2005 the most recent calendar year for which data are available.

In calculating the 2005 theft rates, NHTSA followed the same procedures it used in calculating the MY 2004 theft rates. (For 2004 theft data calculations, see 71 FR 59400, October 10, 2006.) As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources. The 2005 theft rate for each vehicle line was calculated by dividing the number of reported thefts of MY 2005 vehicles of that line stolen during calendar year 2005, by the total number of vehicles in that line manufactured for MY 2005, as reported by manufacturers to the Environmental Protection Agency.

The preliminary 2005 theft data show an increase in the vehicle theft rate when compared to the theft rate experienced in CY/MY 2004. The preliminary theft rate for MY 2005 passenger vehicles stolen in calendar year 2005 increased to 1.85 thefts per thousand vehicles produced, an increase of 1.1 percent from the rate of 1.83 thefts per thousand vehicles experienced by MY 2004 vehicles in CY 2004. For MY 2005 vehicles, out of a total of 233 vehicle lines, 24 lines had a theft rate higher than 3.5826 per thousand vehicles, the established median theft rate for MYs 1990/1991 (See 59 FR 12400, March 16, 1994). Of the 24 vehicle lines with a theft rate higher than 3.5826, 21 are passenger car lines, two are multipurpose passenger vehicle lines, and one is a light-duty truck line.

In Table I, NHTSA has tentatively ranked each of the MY 2005 vehicle lines in descending order of theft rate. Public comment is sought on the accuracy of the data, including the data for the production volumes of individual vehicle lines.

Comments must not exceed 15 pages in length (49 CFR part 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 33101, 33102 and 33104; delegation of authority at 49 CFR 1.50.

Preliminary Report of Theft Rates for Model Year 2005 Passenger Motor Vehicles Stolen in Calendar Year 2005
| Manufacturer | Make/model (line) | Thefts 2005 | Production (mfr's) 2005 | 2005 Theft rate (per 1,000 vehicles produced)
1 | TOYOTA | TOYOTA TUNDRA PICKUP | 265 | 14,194 | 18.6699
2 | SUZUKI | AERIO | 77 | 11,804 | 6.5232
3 | KIA | RIO | 156 | 26,328 | 5.9253
4 | MERCEDES BENZ | 215 (CL-CLASS) | 9 | 1,601 | 5.6215
5 | JAGUAR | XKR | 4 | 748 | 5.3476
6 | GENERAL MOTORS | CHEVROLET MONTE CARLO | 188 | 35,876 | 5.2403
7 | MITSUBISHI | GALANT | 150 | 28,808 | 5.2069
8 | DAIMLERCHRYSLER | DODGE NEON | 783 | 154,231 | 5.0768
9 | DAIMLERCHRYSLER | DODGE MAGNUM | 387 | 79,254 | 4.8830
10 | DAIMLERCHRYSLER | CHRYSLER SEBRING | 242 | 49,892 | 4.8505
11 | DAIMLERCHRYSLER | DODGE STRATUS | 452 | 94,735 | 4.7712
12 | KIA | OPTIMA | 145 | 31,362 | 4.6234
13 | MITSUBISHI | LANCER | 141 | 31,226 | 4.5155
14 | NISSAN | SENTRA | 519 | 116,354 | 4.4605
15 | GENERAL MOTORS | CHEVROLET MALIBU | 908 | 212,400 | 4.2750
16 | TOYOTA | TOYOTA ECHO | 43 | 10,540 | 4.0797
17 | GENERAL MOTORS | PONTIAC GRAND AM | 248 | 61,502 | 4.0324
18 | TOYOTA | LEXUS GS | 12 | 3,004 | 3.9947
19 | SUZUKI | FORENZA | 129 | 33,387 | 3.8638
20 | NISSAN | INFINITI FX45 | 7 | 1,850 | 3.7838
21 | GENERAL MOTORS | CHEVROLET CAVALIER | 351 | 95,838 | 3.6624
22 | HONDA | ACURA RSX | 69 | 19,135 | 3.6060
23 | KIA | SPECTRA | 191 | 53,027 | 3.6019
24 | HONDA | S2000 | 32 | 8,921 | 3.5870
25 | MASERATI | SPYDER/F1 | 1 | 289 | 3.4602
26 | GENERAL MOTORS | PONTIAC SUNFIRE | 132 | 38,239 | 3.4520
27 | DAIMLERCHRYSLER | CHRYSLER SEBRING CONVERTIBLE | 114 | 33,498 | 3.4032
28 | SUZUKI | VITARA/GRAND VITARA | 81 | 24,542 | 3.3005
29 | TOYOTA | TOYOTA MR2 SPYDER | 3 | 912 | 3.2895
30 | TOYOTA | LEXUS IS | 20 | 6,343 | 3.1531
31 | DAIMLERCHRYSLER | CHRYSLER 300 | 499 | 158,545 | 3.1474
32 | SUZUKI | VERONA | 23 | 7,409 | 3.1043
33 | HYUNDAI | ACCENT | 158 | 51,121 | 3.0907
34 | GENERAL MOTORS | CHEVROLET AVEO | 196 | 64,250 | 3.0506
35 | HYUNDAI | TIBURON | 46 | 15,100 | 3.0464
36 | GENERAL MOTORS | CHEVROLET IMPALA | 701 | 230,633 | 3.0395
37 | NISSAN | 350Z | 82 | 27,146 | 3.0207
38 | MITSUBISHI | ECLIPSE | 25 | 8,471 | 2.9512
39 | FORD MOTOR CO | LINCOLN LS | 64 | 21,743 | 2.9435
40 | GENERAL MOTORS | CHEVROLET COBALT | 410 | 140,975 | 2.9083
41 | NISSAN | INFINITI QX56 | 36 | 12,666 | 2.8423
42 | NISSAN | MAXIMA | 209 | 73,931 | 2.8270
43 | NISSAN | ALTIMA | 1,035 | 368,779 | 2.8066
44 | MAZDA | 6 | 191 | 68,252 | 2.7985
45 | SUZUKI | RENO | 16 | 5,736 | 2.7894
46 | TOYOTA | SCION XB | 187 | 67,396 | 2.7746
47 | SUBARU | IMPREZA | 103 | 38,390 | 2.6830
48 | GENERAL MOTORS | PONTIAC GRAND PRIX | 284 | 107,972 | 2.6303
49 | FORD MOTOR CO | FORD TAURUS | 527 | 201,826 | 2.6112
50 | FORD MOTOR CO | FORD FOCUS | 637 | 245,780 | 2.5917
51 | TOYOTA | TOYOTA CELICA | 11 | 4,258 | 2.5834
52 | BMW | M3 | 14 | 5,471 | 2.5589
53 | GENERAL MOTORS | PONTIAC GTO | 28 | 11,065 | 2.5305
54 | ROLLS ROYCE | PHANTOM | 1 | 399 | 2.5063
55 | FORD MOTOR CO | FORD MUSTANG | 362 | 145,599 | 2.4863
56 | MITSUBISHI | OUTLANDER | 36 | 14,983 | 2.4027
57 | GENERAL MOTORS | CHEVROLET BLAZER S10/T10 | 12 | 5,018 | 2.3914
58 | NISSAN | INFINITI FX35 | 72 | 30,172 | 2.3863
59 | DAIMLERCHRYSLER | JEEP WRANGLER | 178 | 74,706 | 2.3827
60 | GENERAL MOTORS | CADILLAC XLR | 9 | 3,828 | 2.3511
61 | BMW | 6 | 25 | 10,636 | 2.3505
62 | TOYOTA | TOYOTA COROLLA | 864 | 368,744 | 2.3431
63 | TOYOTA | SCION TC | 146 | 62,321 | 2.3427
64 | NISSAN | FRONTIER PICKUP | 146 | 62,799 | 2.3249
65 | MITSUBISHI | ENDEAVOR | 46 | 20,871 | 2.2040
66 | HYUNDAI | SONATA | 175 | 79,781 | 2.1935
67 | MAZDA | B SERIES PICKUP | 12 | 5,686 | 2.1104
68 | HYUNDAI | ELANTRA | 277 | 132,495 | 2.0906
69 | MITSUBISHI | MONTERO | 8 | 3,829 | 2.0893
70 | GENERAL MOTORS | PONTIAC G6 | 128 | 62,481 | 2.0486
71 | NISSAN | XTERRA | 113 | 55,179 | 2.0479
72 | KIA | SEDONA VAN | 156 | 76,527 | 2.0385
73 | FORD MOTOR CO | FORD RANGER PICKUP | 209 | 103,723 | 2.0150
74 | VOLKSWAGEN | GOLF/GTI | 29 | 14,447 | 2.0073
75 | HONDA | CIVIC | 577 | 288,917 | 1.9971
76 | KIA | SORENTO | 114 | 57,272 | 1.9905
77 | MERCEDES BENZ | 203 (C-CLASS) | 139 | 70,818 | 1.9628
78 | HONDA | ACURA TSX | 70 | 35,836 | 1.9533
79 | ISUZU | ASCENDER | 14 | 7,219 | 1.9393
80 | MAZDA | RX-8 | 34 | 17,608 | 1.9309
81 | KIA | AMANTI | 43 | 22,858 | 1.8812
82 | TOYOTA | SCION XA | 60 | 32,132 | 1.8673
83 | TOYOTA | TOYOTA TACOMA PICKUP | 283 | 151,776 | 1.8646
84 | JAGUAR | XJ8/XJ8L | 8 | 4,330 | 1.8476
85 | NISSAN | INFINITI G35 | 120 | 65,227 | 1.8397
86 | JAGUAR | S-TYPE | 25 | 13,629 | 1.8343
87 | MAZDA | 3 | 158 | 86,184 | 1.8333
88 | DAIMLERCHRYSLER | CHRYSLER PT CRUISER | 240 | 133,335 | 1.8000
89 | TOYOTA | LEXUS SC | 16 | 9,019 | 1.7740
90 | NISSAN | INFINITI Q45 | 3 | 1,712 | 1.7523
91 | NISSAN | PATHFINDER | 143 | 82,667 | 1.7298
92 | MERCEDES BENZ | 208 (CLK-CLASS) | 37 | 21,724 | 1.7032
93 | SUBARU | BAJA | 14 | 8,244 | 1.6982
94 | AUDI | A4/A4 QUATTRO/S4/S4 AVANT | 80 | 47,470 | 1.6853
95 | GENERAL MOTORS | CHEVROLET TRAILBLAZER | 311 | 184,671 | 1.6841
96 | TOYOTA | TOYOTA CAMRY/SOLARA | 732 | 437,173 | 1.6744
97 | NISSAN | QUEST VAN | 60 | 35,913 | 1.6707
98 | GENERAL MOTORS | PONTIAC AZTEK | 17 | 10,197 | 1.6672
99 | DAIMLERCHRYSLER | JEEP GRAND CHEROKEE | 356 | 214,714 | 1.6580
100 | MERCEDES BENZ | 170 (SLK-CLASS) | 17 | 10,310 | 1.6489
101 | GENERAL MOTORS | BUICK CENTURY | 65 | 40,051 | 1.6229
102 | FORD MOTOR CO | FORD EXPLORER | 317 | 196,740 | 1.6113
103 | FORD MOTOR CO | MERCURY SABLE | 58 | 36,134 | 1.6051
104 | SAAB | 9-2X | 9 | 5,713 | 1.5754
105 | HONDA | ACCORD | 576 | 371,940 | 1.5486
106 | FORD MOTOR CO | FORD EXPLORER SPORT TRAC | 83 | 53,640 | 1.5474
107 | HONDA | ACURA 3.2 TL | 125 | 82,497 | 1.5152
108 | GENERAL MOTORS | CHEVROLET COLORADO | 206 | 136,994 | 1.5037
109 | BMW | 3 | 88 | 58,554 | 1.5029
110 | BMW | 5 | 42 | 28,346 | 1.4817
111 | FORD MOTOR CO | MERCURY MOUNTAINEER | 48 | 32,416 | 1.4808
112 | GENERAL MOTORS | SATURN ION | 104 | 71,021 | 1.4644
113 | DAIMLERCHRYSLER | CHRYSLER CROSSFIRE | 36 | 24,679 | 1.4587
114 | GENERAL MOTORS | GMC ENVOY | 102 | 70,105 | 1.4550
115 | KIA | SPORTAGE | 35 | 24,351 | 1.4373
116 | GENERAL MOTORS | GMC CANYON PICKUP | 56 | 39,149 | 1.4304
117 | FORD MOTOR CO | LINCOLN TOWN CAR | 67 | 46,853 | 1.4300
118 | MERCEDES BENZ | 129 (SL-CLASS) | 15 | 10,586 | 1.4170
119 | NISSAN | MURANO | 102 | 72,482 | 1.4072
120 | TOYOTA | TOYOTA MATRIX | 99 | 72,719 | 1.3614
121 | HYUNDAI | SANTA FE | 100 | 73,979 | 1.3517
122 | HYUNDAI | XG300 | 27 | 20,099 | 1.3434
123 | GENERAL MOTORS | PONTIAC VIBE | 95 | 71,357 | 1.3313
124 | GENERAL MOTORS | CADILLAC DEVILLE | 76 | 57,246 | 1.3276
125 | VOLKSWAGEN | JETTA | 116 | 87,710 | 1.3225
126 | AUDI | A8 | 7 | 5,336 | 1.3118
127 | VOLKSWAGEN | PHAETON | 1 | 768 | 1.3021
128 | MAZDA | TRIBUTE | 68 | 52,267 | 1.3010
129 | JAGUAR | VANDEN PLAS/SUPER V8 | 4 | 3,075 | 1.3008
130 | FORD MOTOR CO | FORD CROWN VICTORIA | 24 | 18,754 | 1.2797
131 | FORD MOTOR CO | FORD FREESTAR VAN | 92 | 72,690 | 1.2656
132 | GENERAL MOTORS | CHEVROLET ASTRO VAN | 29 | 23,439 | 1.2373
133 | DAIMLERCHRYSLER | CHRYSLER PACIFICA | 146 | 118,329 | 1.2338
134 | GENERAL MOTORS | PONTIAC BONNEVILLE | 26 | 21,519 | 1.2082
135 | GENERAL MOTORS | CADILLAC CTS | 74 | 61,323 | 1.2067
136 | BMW | 7 | 9 | 7,495 | 1.2008
137 | DAIMLERCHRYSLER | DODGE CARAVAN/GRAND CARAVAN | 440 | 367,439 | 1.1975
138 | TOYOTA | TOYOTA 4RUNNER | 127 | 106,810 | 1.1890
139 | DAIMLERCHRYSLER | DODGE VIPER | 2 | 1,692 | 1.1820
140 | HYUNDAI | TUCSON | 71 | 61,346 | 1.1574
141 | ASTON MARTIN | DB9 | 1 | 874 | 1.1442
142 | GENERAL MOTORS | GMC SAFARI VAN | 5 | 4,441 | 1.1259
143 | FORD MOTOR CO | FORD FIVE HUNDRED | 109 | 97,689 | 1.1158
144 | VOLVO | V70 | 9 | 8,070 | 1.1152
145 | MERCEDES BENZ | 220 (S-CLASS) | 13 | 11,831 | 1.0988
146 | FORD MOTOR CO | FORD THUNDERBIRD | 10 | 9,189 | 1.0883
147 | BMW | X3 | 31 | 28,657 | 1.0818
148 | TOYOTA | LEXUS LS | 31 | 29,049 | 1.0672
149 | GENERAL MOTORS | CHEVROLET EQUINOX | 192 | 183,758 | 1.0449
150 | FORD MOTOR CO | FORD ESCAPE | 252 | 243,658 | 1.0342
151 | DAIMLERCHRYSLER | JEEP LIBERTY | 178 | 173,110 | 1.0282
152 | TOYOTA | LEXUS ES | 83 | 80,735 | 1.0281
153 | TOYOTA | LEXUS GX | 28 | 27,260 | 1.0271
154 | TOYOTA | TOYOTA AVALON | 59 | 57,577 | 1.0247
155 | GENERAL MOTORS | CHEVROLET CORVETTE | 34 | 33,810 | 1.0056
156 | GENERAL MOTORS | BUICK LESABRE | 105 | 105,985 | 0.9907
157 | TOYOTA | LEXUS RX | 94 | 96,140 | 0.9777
158 | PORSCHE | BOXSTER | 6 | 6,142 | 0.9769
159 | GENERAL MOTORS | CHEVROLET VENTURE VAN | 24 | 25,341 | 0.9471
160 | ROLLS ROYCE | BENTLEY CONTINENTAL | 3 | 3,176 | 0.9446
161 | VOLVO | S40 | 24 | 25,722 | 0.9331
162 | TOYOTA | TOYOTA RAV4 | 75 | 82,037 | 0.9142
163 | BMW | Z4 | 10 | 11,079 | 0.9026
164 | HONDA | ELEMENT | 47 | 52,440 | 0.8963
165 | FORD MOTOR CO | MERCURY MARINER | 29 | 32,734 | 0.8859
166 | GENERAL MOTORS | SATURN LS | 6 | 6,790 | 0.8837
167 | FORD MOTOR CO | MERCURY GRAND MARQUIS | 61 | 69,862 | 0.8731
168 | TOYOTA | TOYOTA HIGHLANDER | 113 | 130,146 | 0.8683
169 | GENERAL MOTORS | BUICK PARK AVENUE | 8 | 9,282 | 0.8619
170 | GENERAL MOTORS | SATURN VUE | 56 | 65,105 | 0.8601
171 | VOLKSWAGEN | PASSAT | 30 | 35,149 | 0.8535
172 | PORSCHE | 911 | 7 | 8,391 | 0.8342
173 | GENERAL MOTORS | CADILLAC STS | 31 | 37,226 | 0.8328
174 | TOYOTA | TOYOTA SIENNA VAN | 144 | 172,999 | 0.8324
175 | GENERAL MOTORS | BUICK LACROSSE/ALLURE | 68 | 81,894 | 0.8303
176 | LAND ROVER | FREELANDER | 2 | 2,441 | 0.8193
177 | MAZDA | MPV VAN | 15 | 18,902 | 0.7936
178 | HONDA | ACURA 3.5 RL | 17 | 21,526 | 0.7897
179 | VOLKSWAGEN | NEW BEETLE | 27 | 34,410 | 0.7847
180 | AUDI | A6/A6 QUATTRO/S6/S6 AVANT | 12 | 15,432 | 0.7776
181 | DAIMLERCHRYSLER | CHRYSLER TOWN & COUNTRY | 195 | 253,162 | 0.7703
182 | GENERAL MOTORS | BUICK RENDEZVOUS | 42 | 54,775 | 0.7668
183 | VOLVO | XC90 | 33 | 43,213 | 0.7637
184 | FORD MOTOR CO | MERCURY MONTEREY VAN | 5 | 6,703 | 0.7459
185 | MERCEDES BENZ | 210 (E-CLASS) | 30 | 40,445 | 0.7417
186 | VOLVO | S80 | 8 | 10,918 | 0.7327
187 | GENERAL MOTORS | BUICK RAINIER | 10 | 13,648 | 0.7327
188 | VOLVO | S60 | 15 | 23,029 | 0.6514
189 | BMW | MINI COOPER | 30 | 47,444 | 0.6323
190 | HONDA | CR-V | 88 | 144,472 | 0.6091
191 | SAAB | 9-3 | 13 | 21,433 | 0.6065
192 | LOTUS | ELISE | 2 | 3,320 | 0.6024
193 | SUBARU | LEGACY/OUTBACK | 21 | 34,944 | 0.6010
194 | AUDI | ALLROAD QUATTRO | 2 | 3,420 | 0.5848
195 | HONDA | ACURA MDX | 35 | 60,287 | 0.5806
196 | HONDA | PILOT | 81 | 142,118 | 0.5699
197 | GENERAL MOTORS | CHEVROLET UPLANDER VAN | 30 | 52,713 | 0.5691
198 | GENERAL MOTORS | CADILLAC SRX | 13 | 23,498 | 0.5532
199 | FORD MOTOR CO | FORD FREESTYLE | 40 | 75,643 | 0.5288
200 | HONDA | ODYSSEY VAN | 85 | 161,742 | 0.5255
201 | FORD MOTOR CO | FORD GT | 1 | 1,907 | 0.5244
202 | SAAB | 9-7X | 1 | 1,999 | 0.5003
203 | MAZDA | MX-5 MIATA | 2 | 4,135 | 0.4837
204 | SUBARU | FORESTER | 24 | 50,942 | 0.4711
205 | FORD MOTOR CO | MERCURY MONTEGO | 13 | 28,517 | 0.4559
206 | GENERAL MOTORS | PONTIAC MONTANA VAN | 14 | 31,583 | 0.4433
207 | TOYOTA | TOYOTA PRIUS | 46 | 121,020 | 0.3801
208 | SUBARU | OUTBACK | 29 | 79,980 | 0.3626
209 | JAGUAR | X-TYPE | 4 | 11,299 | 0.3540
210 | GENERAL MOTORS | SATURN RELAY | 6 | 17,794 | 0.3372
211 | SAAB | 9-5 | 2 | 6,137 | 0.3259
212 | VOLVO | V50 | 2 | 6,909 | 0.2895
213 | GENERAL MOTORS | BUICK TERRAZA VAN | 2 | 19,848 | 0.1008
214 | MASERATI | GRANSPORT | 0 | 490 | 0.0000
215 | MASERATI | QUATTROPORTE | 0 | 1,311 | 0.0000
216 | HONDA | ACURA NSX | 0 | 249 | 0.0000
217 | ASTON MARTIN | VANQUISH | 0 | 165 | 0.0000
218 | AUDI | TT | 0 | 3,375 | 0.0000
219 | ROLLS ROYCE | BENTLEY ARNAGE | 0 | 361 | 0.0000
220 | GENERAL MOTORS | CADILLAC FUNERAL COACH/HEARSE | 0 | 854 | 0.0000
221 | GENERAL MOTORS | CADILLAC LIMOUSINE | 0 | 472 | 0.0000
222 | FERRARI | MARANELLO/F1 | 0 | 235 | 0.0000
223 | FERRARI | SCAGLIETTI/F1 | 0 | 228 | 0.0000
224 | FERRARI | SPIDER/F1 | 0 | 1,093 | 0.0000
225 | GENERAL MOTORS | CHEVROLET CLASSIC | 0 | 83,060 | 0.0000
226 | GENERAL MOTORS | GMC K2500 | 0 | 51 | 0.0000
227 | HONDA | INSIGHT | 0 | 591 | 0.0000
228 | JAGUAR | XJR | 0 | 741 | 0.0000
229 | JAGUAR | XK8 | 0 | 1,760 | 0.0000
230 | NISSAN | ARMADA | 0 | 34,803 | 0.0000
231 | NISSAN | TITAN | 0 | 77,628 | 0.0000
232 | SPYKER | C8 | 0 | 7 | 0.0000
233 | VOLVO | XC70 | 0 | 14,806 | 0.0000

Issued on: October 5, 2007.
Stephen R. Kratzke,
Associate Administrator for Rulemaking.

[FR Doc. 07-5022 Filed 10-12-07; 8:45 am]

BILLING CODE 4910-59-P